CONSUMER PRODUCT SAFETY COMMISSION

Notice of Meeting of Chronic Hazard Advisory Panel on Phthalates

AGENCY: Consumer Product Safety Commission.

ACTION: Notice of meeting.

SUMMARY: The Consumer Product Safety Commission (Commission) announces the first meeting of the Chronic Hazard Advisory Panel (CHAP) on Phthalates. The Commission appointed this CHAP to study the effects on children's health of all phthalates and phthalate alternatives as used in children's toys and child care articles, pursuant to section 108 of the Consumer Product Safety Improvement Act of 2008 (CPSIA) (Pub. L. 110-314).

DATES: The meeting will be held from 9 a.m. to 5 p.m. on Wednesday, April 14 and from 9 a.m. to 4 p.m. on Thursday, April 15, 2010.

ADDRESSES: The meeting will be held in the fourth floor hearing room in the Commission's offices at 4330 East West Highway, Bethesda, Maryland.

Online Registration: Members of the public who wish to attend the meeting are requested to preregister online at http://www.cpsc.gov/cgibin/chap.aspx. This meeting will also be available live via Web cast at http://www.cpsc.gov/webcast. Registration is not necessary to view the Web cast.

FOR FURTHER INFORMATION CONTACT: Michael Babich, Directorate for Health Sciences, Consumer Product Safety Commission, Bethesda, MD 20814; telephone (301) 504-7253; e-mail mbabich@cpsc.gov.

SUPPLEMENTARY INFORMATION: The Commission has previously investigated potential risks posed to children from phthalate plasticizers, especially di(2-ethylhexyl) phthalate (DEHP) and diisononyl phthalate (DINP), which were used to soften some children's teethers, rattles, and toys made from polyvinyl chloride (PVC). Phthalates can leach from such products when they are mouthed by children, causing some phthalates to be ingested. In addition, children and adults can be exposed to phthalates from many sources, including consumer products, food, cosmetics, medical devices, and the environment. Certain phthalates have been shown to cause adverse health effects, including birth defects, in laboratory animals.

Section 108 of the CPSIA permanently prohibits the sale of any “children's toy or child care article” containing more than 0.1 percent of three specified phthalates—DEHP, dibutyl phthalate (DBP), and benzyl butyl phthalate (BBP). Section 108 of the CPSIA also prohibits, on an interim basis, the sale of “toys that can be placed in a child's mouth” or “child care articles” containing more than 0.1 percent of three additional phthalates—DINP, diisodecyl phthalate (DIDP), and di-n-octyl phthalate (DNOP).

Moreover, section 108 of the CPSIA requires the Commission to convene a CHAP “to study the effects on children's health of all phthalates and phthalate alternatives as used in children's toys and child care articles.” The CPSIA requires the CHAP to complete an examination of the full range of phthalates that are used in products for children and to: (i) Examine all of the potential health effects (including endocrine disrupting effects) of the full range of phthalates; (ii) consider the potential health effects of each of these phthalates both in isolation and in combination with other phthalates; (iii) examine the likely levels of children's, pregnant women's, and others' exposure to phthalates, based on a reasonable estimation of normal and foreseeable use and abuse of such products; (iv) consider the cumulative effect of total exposure to phthalates, both from children's products and from other sources, such as personal care products; (v) review all relevant data, including the most recent, best-available, peer-reviewed, scientific studies of these phthalates and phthalate alternatives that employ objective data collection practices or employ other objective methods; (vi) consider the health effects of phthalates not only from ingestion but also as a result of dermal, hand-to-mouth, or other exposure; (vii) consider the level at which there is a reasonable certainty of no harm to children, pregnant women, or other susceptible individuals and their offspring, considering the best available science, and using sufficient safety factors to account for uncertainties regarding exposure and susceptibility of children, pregnant women, and other potentially susceptible individuals; and (viii) consider possible similar health effects of phthalate alternatives used in children's toys and child care articles.

The CHAP's examination must be conducted de novo, and the statute contemplates completion of its examination within 18 months of appointment of the CHAP. The CHAP must review prior work on phthalates by the Commission, but the Commission's prior work is not to be considered determinative.

The CHAP must make recommendations to the Commission regarding any phthalates (or combinations of phthalates) in addition to those identified in section 108 of the CPSIA or phthalate alternatives that the panel determines should be declared banned hazardous substances. The Commission selected the CHAP members from scientists nominated by the National Academy of Sciences. See 15 U.S.C. 2077, 2030(b).

The first meeting of the CHAP on Phthalates will be held on April 14 and 15, 2010, in the fourth floor hearing room at the Commission's offices at 4330 East West Highway, Bethesda, Maryland. The meeting will begin at 9 a.m. both days and is scheduled to end at 5 p.m. on April 14 and 4 p.m. on April 15. The meeting is open to the public, space permitting, but no opportunity for public participation in the first meeting is scheduled. There will be an opportunity in connection with the second meeting of the CHAP for presentation of oral and written data and views (date to be announced).

At the first CHAP meeting, the CHAP will choose its Chair and Vice Chair and the CPSC staff will present information on the history of the phthalates project, the scope of the CHAP on phthalates, including a review of the de novo examination called for in section 108 (b)(2)(B)(i) through (vii) of the CPSIA, and the CPSC staff's toxicity reviews and other work on phthalates. During the remainder of the meeting, the CHAP will consider how it will proceed and begin its deliberations.

Dated: April 6, 2010.
Todd A. Stevenson,
Secretary, Consumer Product Safety Commission.

[FR Doc. 2010-8144 Filed 4-8-10; 8:45 am]

BILLING CODE 6355-01-P